DEPARTMENT OF LABOR

Office of the Acting Secretary

All Items Consumer Price Index for All Urban Consumers; United States City Average

Pursuant to Section 315(c) of the Federal Election Campaign Act of 1971, as amended (Pub. L. 92-225), 52 U.S.C. 30116(c), the Secretary of Labor has certified to the Chair of the Federal Election Commission and publishes this notice in the Federal Register that the United States City Average All Items Consumer Price Index for All Urban Consumers (CPI-U) (1967=100) increased 493.5 percent from its 1974 annual average of 147.7 to its 2022 annual average of 876.664 and it increased 65.3 percent from its 2001 annual average of 530.4 to its 2022 annual average of 876.664. Using 1974 as a base (1974=100), I certify that the CPI-U increased 493.5 percent from its 1974 annual average of 100 to its 2022 annual average of 593.544. Using 2001 as a base (2001=100), I certify that the CPI-U increased 65.3 percent from its 2001 annual average of 100 to its 2022 annual average of 165.284. Using 2006 as a base (2006=100), I certify that the CPI-U increased 45.2 percent from its 2006 annual average of 100 to its 2022 annual average of 145.167.

Signed at Washington, DC.
Julie A. Su,
Acting Secretary of Labor.

[FR Doc. 2023-14212 Filed 7-5-23; 8:45 am]

BILLING CODE 4510-24-P